DEPARTMENT OF ENERGY

Federal Energy Regulatory Commission

[Project No. 10674-016]

Kaukauna Utilities; Notice of Intent To File License Application, Filing of Pre-Application Document, and Approving Use of the Traditional Licensing Process

a. Type of Filing: Notice of Intent to File License Application and Request to Use the Traditional Licensing Process.

b. Project No.: 10674-016.

c. Date Filed: September 23, 2016.

d. Submitted By: Kaukauna Utilities.

e. Name of Project: Kimberly Hydroelectric Project.

f. Location: On the Fox River, at the U.S. Army Corps of Engineers' Cedars Dam in the Village of Kimberly in Outagamie County, Wisconsin.

g. Filed Pursuant to: 18 CFR 5.3 of the Commission's regulations.

h. Potential Applicant Contact: Mike Pedersen, Manager of Generation and Operations, Kaukauna Utilities, 777 Island Street, P.O. Box 1777, Kaukauna, WI 54130-7077, phone: (920) 462-0220.

i. FERC Contact: Colleen Corballis at (202) 502-8598; or email at colleen.corballis@ferc.gov.

j. Kaukauna Utilities filed its request to use the Traditional Licensing Process on September 23, 2016. Kaukauna Utilities provided public notice of its request on October 25, 2016. In a letter dated November 8, 2016, the Director of the Division of Hydropower Licensing approved Kaukauna Utilities's request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson- Stevens Fishery Conservation and Management Act and implementing regulations at 50 CFR 600.920; and (c) the Wisconsin State Historic Preservation Officer, as required by section 106, National Historical Preservation Act, and the implementing regulations of the Advisory Council on Historic Preservation at 36 CFR 800.2.

l. With this notice, we are designating Kaukauna Utilities as the Commission's non-federal representative for carrying out informal consultation, pursuant to section 7 of the Endangered Species Act; section 305 of the Magnuson-Stevens Fishery Conservation and Management Act; and section 106 of the National Historic Preservation Act.

m. Kaukauna Utilities filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensee states its unequivocal intent to submit an application for a new license for Project No. 10674. Pursuant to 18 CFR 16.8, 16.9, and 16.10 each application for a new license and any competing license applications must be filed with the Commission at least 24 months prior to the expiration of the existing license. All applications for license for this project must be filed by September 30, 2019.

p. Register online at http://www.ferc.gov/docs-filing/esubscription.asp to be notified via email of new filing and issuances related to this or other pending projects. For assistance, contact FERC Online Support.

Dated: November 8, 2016.
Kimberly D. Bose,
Secretary.

[FR Doc. 2016-27448 Filed 11-15-16; 8:45 am]

BILLING CODE 6717-01-P